INTERNATIONAL TRADE COMMISSION

[Investigation No. 332-423]

The Effects of EU Policies on the Competitive Position of the U.S. and EU Horticultural Products Sectors

AGENCY: United States International Trade Commission.

ACTION: Institution of investigation and scheduling of public hearing.

EFFECTIVE DATE: December 7, 2000.

FOR FURTHER INFORMATION CONTACT: For general information, Douglas Newman (202-205-3328; newman@usitc.gov), Tim McCarty (202-205-3324; mccarty@usitc.gov), or Cathy Jabara (202-205-3309; jabara@usitc.gov), Agriculture and Forest Products Division, Office of Industries, or for information on legal aspects, William Gearhart (202-205-3091; wgearhart@usitc.gov), Office of the General Counsel, U.S. International Trade Commission. Hearing impaired persons can obtain information on this study by contacting the Commission's TDD terminal on (202) 205-1810. General information concerning the Commission may also be obtained by accessing its internet server (http://www.usitc.gov).

Background

In response to a letter received on November 16, 2000, from the United States Trade Representative, the Commission instituted an investigation for the purpose of preparing a report that will describe the effects of EU policies on the competitive position of the U.S. and EU horticultural products sectors generally, and for several specific products.

As requested, the Commission's report will include the following:

(1) A description of the U.S. and EU fresh and processed horticultural products sectors, including recent patterns of production, consumption, and trade;

(2) A description and analysis of the conditions of trade in various horticultural products between the U.S. and EU and third countries, including tariff treatment and use of export subsidies;

(3) A description and analysis of EU and member state domestic support programs and policies used to assist horticultural products producers, shippers, and exporters; and

(4) An analysis of the effects of EU policies on trade between the U.S. and EU industries in specific horticultural products sectors, especially the effects of tariffs and assistance programs and other significant factors, such as production and marketing costs, exchange rates, and prices.

The report will specifically address the following horticultural products identified by the USTR: Citrus (including fresh oranges, fresh clementines, fresh lemons, and orange juice), deciduous fruit (including fresh apples, fresh pears, fresh peaches, and processed peaches), dried prunes, tree nuts (including almonds, walnuts, and hazelnuts), tomatoes (including fresh tomatoes and processed tomatoes), and wine. The USTR stated that it intends to make available to the public the portion of the report that addresses points (1)-(3) above, and that the portion of the report that addresses point (4) above will be national security classified.

Preliminary Written Comments

In order to assist the Commission in identifying the issues affecting the above sectors, the Commission requests that interested parties provide preliminary written comments on such issues by March 1, 2001. All preliminary written comments should be addressed to the Secretary, United States International Trade Commission, 500 E Street, SW, Washington, DC 20436. Interested parties are also encouraged to provide further information at the public hearing and in prehearing and posthearing briefs/statements.

Public Hearing

A public hearing in connection with the investigation will be held at the U.S. International Trade Commission Building, 500 E Street, SW, Washington, DC, beginning at 9:30 a.m. on April 26, 2001. All persons will have the right to appear, by counsel or in person, to present information and be heard. Requests to appear at the public hearing should be filed with the Secretary, United States International Trade Commission, 500 E Street, SW, Washington, DC 20436, no later than 5:15 p.m., April 12, 2001. Any prehearing briefs (original and 14 copies) should be filed not later than 5:15 p.m., April 16, 2001; the deadline for filing posthearing briefs or statements is 5:15 p.m., June 11, 2001. In the event that, as of the close of business, April 12, 2001, no witnesses are scheduled to appear at the hearing, the hearing will be canceled. Any person interested in attending the hearing as an observer or non-participant may call the Secretary to the Commission (202-205-1806) after April 12, 2001, to determine whether the hearing will be held.

Written Submissions

In lieu of, or in addition to, participating in the hearing, interested persons are invited to submit written statements concerning the matters to be addressed by the Commission in its report on this investigation. Commercial or financial information which a submitter desires the Commission to treat as confidential must be provided on separate sheets of paper, each clearly marked “Confidential Business Information” at the top. All submissions requesting confidential treatment must conform with the requirements of § 201.6 of the Commission's rules of practice and procedure (19 CFR 201.6). All written submissions, except for confidential business information, will be made available in the Office of the Secretary of the Commission for inspection by interested persons. To be assured of consideration by the Commission, written statements relating to the Commission's report should be submitted to the Commission in accordance with § 201.8 of the Commission's rules at the earliest practical date and should be received no later than the close of business on June 11, 2001. All submissions should be addressed to the Secretary, United States International Trade Commission, 500 E Street SW, Washington, DC 20436. The Commission's rules do not authorize filing of submissions with the Secretary by facsimile or electronic means.

Persons with mobility impairments who will need special assistance in gaining access to the Commission should contact the Office of the Secretary at 202-205-2000.

Issued: December 12, 2000.
By order of the Commission.
Donna R. Koehnke,
Secretary.

[FR Doc. 00-32253 Filed 12-18-00; 8:45 am]

BILLING CODE 7020-02-P